DEPARTMENT OF TRANSPORTATION

Federal Aviation Administration

14 CFR Part 39

[Docket No. FAA-2016-5593; Directorate Identifier 2015-NM-184-AD; Amendment 39-18687; AD 2016-21-06]

RIN 2120-AA64

Airworthiness Directives; Bombardier, Inc. Airplanes

AGENCY: Federal Aviation Administration (FAA), Department of Transportation (DOT).

ACTION: Final rule.

SUMMARY: We are superseding Airworthiness Directive (AD) 2015-02-23, for certain Bombardier, Inc. Model CL-600-1A11 (CL-600), CL-600-2A12 (CL-601), and CL-600-2B16 (CL-601-3A and CL-601-3R Variants) airplanes. AD 2015-02-23 required repetitive inspections for fractured or incorrectly oriented fasteners on the inboard flap hinge-box forward fittings on both wings, and replacement of all fasteners if necessary. This new AD also requires replacement of the fasteners, which terminates the requirements of this AD. This AD was prompted by reports of incorrectly oriented fasteners. We are issuing this AD to prevent incorrectly oriented or fractured fasteners, which could result in detachment of the flap hinge-box and the flap surface, and consequent reduced controllability of the airplane.

DATES: This AD is effective December 19, 2016.

The Director of the Federal Register approved the incorporation by reference of certain publications listed in this AD as of February 18, 2015 (80 FR 5670, February 3, 2015).

ADDRESSES: For service information identified in this final rule, contact Bombardier, Inc., 400 Côte-Vertu Road West, Dorval, Québec H4S 1Y9, Canada; Widebody Customer Response Center North America toll-free telephone: 1-866-538-1247 or direct-dial telephone: 1-514-855-2999; fax 514-855-7401; email: ac.yul@aero.bombardier.com; Internet: http://www.bombardier.com. You may view this referenced service information at the FAA, Transport Airplane Directorate, 1601 Lind Avenue SW., Renton, WA. For information on the availability of this material at the FAA, call 425-227-1221. It is also available on the Internet at http://www.regulations.gov by searching for and locating Docket No. FAA-2016-5593.

Examining the AD Docket

You may examine the AD docket on the Internet at http://www.regulations.gov by searching for and locating Docket No. FAA-2016-5593; or in person at the Docket Management Facility between 9 a.m. and 5 p.m., Monday through Friday, except Federal holidays. The AD docket contains this AD, the regulatory evaluation, any comments received, and other information. The address for the Docket Office (telephone: 800-647-5527) is Docket Management Facility, U.S. Department of Transportation, Docket Operations, M-30, West Building Ground Floor, Room W12-140, 1200 New Jersey Avenue SE., Washington, DC 20590.

FOR FURTHER INFORMATION CONTACT: Aziz Ahmed, Aerospace Engineer, Airframe and Mechanical Systems Branch, ANE-171, FAA, New York Aircraft Certification Office (ACO), 1600 Stewart Avenue, Suite 410, Westbury, NY 11590; telephone: 516-228-7329; fax: 516-794-5531.

SUPPLEMENTARY INFORMATION:

Discussion

We issued a notice of proposed rulemaking (NPRM) to amend 14 CFR part 39 to supersede AD 2015-02-23, Amendment 39-18092 (80 FR 5670, February 3, 2015) (“AD 2015-02-23”). AD 2015-02-23 applied to certain Bombardier, Inc. Model CL-600-1A11 (CL-600), CL-600-2A12 (CL-601), and CL-600-2B16 (CL-601-3A and CL-601-3R Variants) airplanes. AD 2015-02-23 corresponded to Canadian Emergency AD CF-2013-39R2, dated December 12, 2014 (referred to after this as the Mandatory Continuing Airworthiness Information, or “the MCAI”). The MCAI was issued by Transport Canada Civil Aviation (TCCA), which is the aviation authority for Canada.

The preamble to AD 2015-02-23 explained that we considered the requirements interim action and were considering further rulemaking. We have now determined that further rulemaking is indeed necessary and that, instead of continuing repetitive inspections, for airplanes which have any incorrectly oriented fastener, and no fractured or missing fastener, replacement of all forward and aft fasteners, regardless of condition or orientation, is necessary. This AD follows from that determination.

The NPRM published in the Federal Register on April 20, 2016 (81 FR 23202). The NPRM was prompted by reports of incorrectly oriented fasteners. The NPRM proposed to continue to require repetitive inspections for fractured or incorrectly oriented fasteners on the inboard flap hinge-box forward fittings on both wings, and replacement of all fasteners if necessary. The NPRM also proposed to require replacement of the fasteners, which would terminate the requirements of this AD. We are issuing this AD to prevent incorrectly oriented or fractured fasteners, which could result in detachment of the flap hinge-box and the flap surface, and consequent reduced controllability of the airplane.

Comments

We gave the public the opportunity to participate in developing this AD. We received no comments on the NPRM or on the determination of the cost to the public.

Conclusion

We reviewed the available data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Bombardier has issued Alert Service Bulletins A600-0763, Revision 02, dated December 9, 2014, including Appendixes 1 and 2, dated September 26, 2013; and A601-0627, Revision 02, dated December 9, 2014, including Appendixes 1 and 2, dated September 26, 2013. The service information describes procedures for repetitive inspections of the fasteners on the inboard flap hinge-box forward fittings on both wings, and replacement of fasteners. These documents are distinct since they apply to different airplane models. This service information is reasonably available because the interested parties have access to it through their normal course of business or by the means identified in the ADDRESSES section.

Costs of Compliance

We estimate that this AD affects 120 airplanes of U.S. registry.

The actions required by AD 2015-02-23, and retained in this AD, take about 1 work-hour per product, at an average labor rate of $85 per work-hour. Based on these figures, the estimated cost of the actions that are required by AD 2015-02-23 is $85 per product.

We also estimate that it would take about 59 work-hours per product to comply with the basic requirements of this AD. The average labor rate is $85 per work-hour. We have received no definitive data that would enable us to provide cost estimates for the parts cost. Based on these figures, we estimate the cost of this AD on U.S. operators to be $601,800, or $5,015 per product.

In addition, we estimate that any necessary follow-on actions will take about 58 work-hours and require parts costing $753, for a cost of $5,683 per product. We have no way of determining the number of aircraft that might need this action.

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-02-23, Amendment 39-18092 (80 FR 5670, February 3, 2015), and adding the following new AD:

2016-21-06 Bombardier, Inc.: Amendment 39-18687; Docket No. FAA-2016-5593; Directorate Identifier 2015-NM-184-AD.

(a) Effective Date

This AD is effective December 19, 2016.

(b) Affected ADs

This AD replaces AD 2015-02-23, Amendment 39-18092 (80 FR 5670, February 3, 2015) (“AD 2015-02-23”). This AD affects AD 2014-03-17, Amendment 39-17754 (79 FR 9389, February 19, 2014) (“AD 2014-03-17”).

(c) Applicability

This AD applies to the Bombardier, Inc. airplanes identified in paragraphs (c)(1), (c)(2), and (c)(3) of this AD, certificated in any category.

(1) Bombardier, Inc. Model CL-600-1A11 (CL-600) airplanes, having serial numbers (S/Ns) 1004 through 1085 inclusive.

(2) Bombardier, Inc. Model CL-600-2A12 (CL-601) airplanes, having S/Ns 3001 through 3066 inclusive.

(3) Bombardier, Inc. Model CL-600-2B16 (CL-601-3A and CL-601-3R Variants) airplanes, having S/Ns 5001 through 5194 inclusive.

(d) Subject

Air Transport Association (ATA) of America Code 57, Wings.

(e) Reason

This AD was prompted by reports of incorrectly oriented fasteners. We are issuing this AD to prevent incorrectly oriented or fractured fasteners, which could result in detachment of the flap hinge-box and the flap surface, and consequent reduced controllability of the airplane.

(f) Compliance

Comply with this AD within the compliance times specified, unless already done.

(g) Retained Inspection on Airplanes Not Previously Inspected, With No Changes

This paragraph restates the requirements of paragraph (g) of AD 2015-02-23, with no changes. For airplanes that have not been inspected as required by paragraph (g) of AD 2014-03-17, as of February 18, 2015 (the effective date of AD 2015-02-23): Within 10 flight cycles after February 18, 2015, or 100 flight cycles after March 6, 2014 (the effective date of AD 2014-03-17), whichever occurs first, do a detailed visual inspection for incorrect orientation and any fractured or missing fastener heads of each inboard flap fastener of the hinge-box forward fitting at wing station (WS) 76.50 and WS 127.25, on both wings, in accordance with the Accomplishment Instructions of the applicable service information specified in paragraphs (g)(1) and (g)(2) of this AD. Accomplishing the inspection required by this paragraph terminates the requirements of paragraph (g) of AD 2014-03-17 for the inspected airplane only.

(1) For Model CL-600-1A11 (CL-600) airplanes having S/Ns 1004 through 1085 inclusive: Bombardier Alert Service Bulletin A600-0763, Revision 02, dated December 9, 2014, including Appendixes 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendixes 1 and 2, dated September 26, 2013.

(h) Retained Corrective Actions for Paragraph (g) of This AD, With Revised Paragraph (h)(2) of This AD

(1) This paragraph restates the requirements of paragraph (h)(1) of AD 2015-02-23, with no changes. If, during any inspection required by paragraph (g) of this AD, all fasteners are found correctly oriented and not fractured, and no fastener heads are missing (fasteners found intact): No further action is required by this AD.

(2) This paragraph restates the requirements of paragraph (h)(2) of AD 2015-02-23, with revised references to replacement paragraphs. If, during any inspection required by paragraph (g) of this AD, any fastener is found incorrectly oriented but no fasteners are fractured or are missing a fastener head (fasteners found intact), repeat the inspection required by paragraph (g) of this AD thereafter at intervals not to exceed 10 flight cycles until the replacements specified in paragraphs (h)(3), (k), or (n) of this AD are accomplished.

(3) This paragraph restates the requirements of paragraph (h)(3) of AD 2015-02-23, with no changes. If, during any inspection required by paragraph (g) of this AD, any fastener is found fractured or has a missing fastener head: Before further flight, remove and replace all forward and aft fasteners (regardless of orientation or condition) at WS 76.50 and WS 127.25, on both wings, in accordance with the Accomplishment Instructions of the applicable service information specified in paragraphs (h)(3)(i) and (h)(3)(ii) of this AD, except as required by paragraph (m) of this AD. After accomplishing the replacements required by this paragraph, no further action is required by this AD.

(i) For Model CL-600-1A11 (CL-600) airplanes having S/Ns 1004 through 1085 inclusive: Bombardier Alert Service Bulletin A600-0763, Revision 02, dated December 9, 2014, including Appendixes 1 and 2, dated September 26, 2013.

(ii) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendixes 1 and 2, dated September 26, 2013.

(i) Retained Inspection for Airplanes Previously Inspected and Found To Have Incorrectly Oriented Fastener(s), With No Changes

This paragraph restates the requirements of paragraph (i) of AD 2015-02-23, with no changes. For airplanes on which an inspection required by paragraph (g) or (j) of AD 2014-03-17, has been done as of the effective date of this AD, and on which any incorrectly oriented fastener was found but no fasteners were fractured (fasteners found intact): Except as provided by paragraph (l) of this AD, within 10 flight cycles after February 18, 2015 (the effective date of AD 2015-02-23), or within 100 flight cycles after accomplishing the most recent inspection required by AD 2014-03-17, whichever occurs first, do a detailed visual inspection for any fractured or missing fastener heads of each inboard flap fastener of the hinge-box forward fitting at WS 76.50 and WS 127.25, on both wings. Do the inspection in accordance with the Accomplishment Instructions of the applicable service information specified in paragraphs (i)(1) and (i)(2) of this AD. Accomplishing the inspection required by this paragraph terminates the requirements of paragraphs (g) and (j) of AD 2014-03-17 for the inspected airplane only.

(1) For Model CL-600-1A11 (CL-600) airplanes having S/Ns 1004 through 1085 inclusive: Bombardier Alert Service Bulletin A600-0763, Revision 02, dated December 9, 2014, including Appendixes 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendixes 1 and 2, dated September 26, 2013.

(j) Retained Corrective Actions for Paragraph (i) of This AD, With Revised Reference to Additional, New Requirements

(1) This paragraph restates the requirements of paragraph (j)(1) of AD 2015-02-23, with revised reference to additional, new requirements. If, during any inspection required by paragraph (i) of this AD, no fasteners are found fractured or have missing fastener heads (fasteners are intact), repeat the inspection required by paragraph (i) of this AD thereafter at intervals not to exceed 10 flight cycles until the replacement specified in paragraph (j)(2), (k), or (n) of this AD is accomplished.

(2) This paragraph restates the requirements of paragraph (j)(2) of AD 2015-02-23, with no changes. If, during any inspection required by paragraph (i) of this AD, any fastener is found fractured or has a missing fastener head: Before further flight, remove and replace all forward and aft fasteners (regardless of orientation or condition) at WS 76.50 and WS 127.25, on both wings, in accordance with the Accomplishment Instructions of the applicable service information specified in paragraphs (j)(2)(i) and (j)(2)(ii) of this AD, except as required by paragraph (m) of this AD. After accomplishing the replacements required by this paragraph, no further action is required by this AD.

(i) For Model CL-600-1A11 (CL-600) airplanes having S/Ns 1004 through 1085 inclusive: Bombardier Alert Service Bulletin A600-0763, Revision 02, dated December 9, 2014, including Appendixes 1 and 2, dated September 26, 2013.

(ii) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendixes 1 and 2, dated September 26, 2013.

(k) Retained Optional Terminating Action for Incorrectly Oriented Fasteners, With No Changes

This paragraph restates the provisions of paragraph (k) of AD 2015-02-23, with no changes. Replacement of all forward and aft fasteners (regardless of orientation or condition) at WS 76.50 and WS 127.25, on both wings, terminates the requirements of this AD. The replacement must be done in accordance with the Accomplishment Instructions of the applicable service information specified in paragraphs (k)(1) and (k)(2) of this AD, except as provided by paragraph (m) of this AD. Doing the replacements specified in this paragraph terminates the requirements of paragraphs (g) and (j) of AD 2014-03-17, only for the airplane on which the replacement was done.

(1) For Model CL-600-1A11 (CL-600) airplanes having S/Ns 1004 through 1085 inclusive: Bombardier Alert Service Bulletin A600-0763, Revision 02, dated December 9, 2014, including Appendixes 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendixes 1 and 2, dated September 26, 2013.

(l) Retained Exception for Previously Replaced Fasteners, With No Changes

This paragraph restates the provisions of paragraph (l) of AD 2015-02-23, with no changes. Replacement of all fractured and incorrectly oriented forward and aft fasteners, as specified in paragraph (i) or (k) of AD 2014-03-17, if done before the effective date of this AD, is considered acceptable for compliance with the requirements of this AD.

(m) Retained Exception to the Service Information, With No Changes

This paragraph restates the requirements of paragraph (m) of AD 2015-02-23, with no changes. Where Bombardier Alert Service Bulletin A600-0763, Revision 02, dated December 9, 2014, including Appendixes 1 and 2, dated September 26, 2013; and Bombardier Alert Service Bulletin A601-0627, Revision 02, dated December 9, 2014, including Appendixes 1 and 2, dated September 26, 2013; specify to contact Bombardier for repair instructions, before further flight, repair using a method approved by the Manager, New York Aircraft Certification Office (ACO), FAA; or Transport Canada Civil Aviation (TCCA); or Bombardier's TCCA Design Approval Organization (DAO).

(n) New Requirement of This AD: Terminating Action

For airplanes on which any incorrectly oriented fastener, and no fractured or missing fastener, was detected during any inspection required by paragraph (g), (h)(2), (i), and (j)(1) of this AD: Within 24 months after the effective date of this AD, replace all forward and aft fasteners, regardless of condition or orientation, at WS 76.50 and WS 127.25, on affected wings, in accordance with the Accomplishment Instructions of the applicable service information specified in paragraphs (k)(1) and (k)(2) of this AD, except as provided by paragraph (m) of this AD. Doing the replacements specified in this paragraph terminates the requirements of this AD. Doing the replacements specified in this paragraph terminates the requirements of paragraphs (g) and (j) of AD 2014-03-17, only for the airplane on which the replacement was done.

(o) Credit for Previous Actions

This paragraph restates the provisions of paragraph (n) of AD 2015-02-23, with new credit for paragraph (n) of this AD. This paragraph provides credit for actions required by paragraphs (g), (h), (i), and (n) of this AD, if those actions were performed before the effective date of this AD using the applicable service information identified in paragraphs (o)(1) through (o)(4) of this AD.

(1) Bombardier Alert Service Bulletin A600-0763, including Appendixes 1 and 2, dated September 26, 2013, which was previously incorporated by reference on March 6, 2014 (79 FR 9389, February 19, 2014).

(2) Bombardier Alert Service Bulletin A600-0763, Revision 01, dated February 26, 2014, including Appendixes 1 and 2, dated September 26, 2013, which is not incorporated by reference in this AD.

(3) Bombardier Alert Service Bulletin A601-0627, including Appendixes 1 and 2, dated September 26, 2013, which was previously incorporated by reference on March 6, 2014 (79 FR 9389, February 19, 2014).

(4) Bombardier Alert Service Bulletin A601-0627, Revision 01, dated February 26, 2014, including Appendixes 1 and 2, dated September 26, 2013, which is not incorporated by reference in this AD.

(p) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone: 516-228-7300; fax: 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or TCCA; or Bombardier, Inc.'s TCCA DAO. If approved by the DAO, the approval must include the DAO-authorized signature.

(q) Related Information

(1) Refer to Mandatory Continuing Airworthiness Information (MCAI) Canadian Emergency AD CF-2013-39R2, dated December 12, 2014, for related information. This MCAI may be found in the AD docket on the Internet at http://www.regulations.gov by searching for and locating Docket No. FAA-2016-5593.

(2) Service information identified in this AD that is not incorporated by reference is available at the addresses specified in paragraphs (r)(4) and (r)(5) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on February 18, 2015 (80 FR 5670, February 3, 2015).

(i) Bombardier Alert Service Bulletin A600-0763, Revision 02, dated December 9, 2014, including Appendixes 1 and 2, dated September 26, 2013.

(ii) Bombardier Alert Service Bulletin A601-0627, Revision 02, dated December 9, 2014, including Appendixes 1 and 2, dated September 26, 2013.

(4) For service information identified in this AD, contact Bombardier, Inc., 400 Côte-Vertu Road West, Dorval, Québec H4S 1Y9, Canada; Widebody Customer Response Center North America toll-free telephone: 1-866-538-1247 or direct-dial telephone: 1-514-855-2999; fax 514-855-7401; email: ac.yul@aero.bombardier.com; Internet: http://www.bombardier.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on October 7, 2016.
Michael Kaszycki,
Acting Manager, Transport Airplane Directorate, Aircraft Certification Service.

[FR Doc. 2016-25009 Filed 11-10-16; 8:45 am]

BILLING CODE 4910-13-P